ENVIRONMENTAL PROTECTION AGENCY

[RCRA-2005-0001; FRL-7880-2]

Modification of the RCRA, Superfund & EPCRA Call Center; Public Information Distribution

AGENCY: Environmental Protection Agency (EPA).

ACTION: Notice.

SUMMARY: The Office of Solid Waste and Emergency Response (OSWER) is today announcing significant changes to the operation of the RCRA, Superfund & EPCRA Call Center (Call Center). The Call Center will terminate support of the Resource Conservation and Recovery Act (RCRA) and Underground Storage Tanks (UST) programs at close of business on Thursday, March 31, 2005. Individuals seeking information on the RCRA and UST programs after that date will be directed to EPA's Headquarters' and Regional Offices' Web sites for these programs, and other sources as described in the SUPPLEMENTARY INFORMATION section.

The Call Center will continue as before to respond to public inquiries about the Comprehensive Environmental Response, Compensation, and Liability Act (CERCLA, or Superfund), including the Small Business Liability Relief and Brownfields Revitalization Act (SBLRBRA, or Brownfields); the Emergency Planning and Community Right-to-Know Act (EPCRA), including the Toxic Release Inventory (TRI) program; the Superfund Amendments Reauthorization Act (SARA) Title III; the Clean Air Act (CAA) Section 112(r); and the Oil Pollution Control Act (OPA). Call Center access will remain unchanged for these programs.

DATES: The Call Center will terminate all support of the RCRA and OUST programs at close of business on Thursday, March 31, 2005.

ADDRESSES: EPA has established a docket for this notice under Docket ID RCRA-2005-0001. Written correspondence concerning this notice can be forwarded in hard copy to the OSWER Docket (5305T), EPA Docket Center, 1200 Pennsylvania Ave., NW., Washington, DC 20460, or electronically via EDOCKET. Follow the instructions provided in the SUPPLEMENTARY INFORMATION section.

FOR FURTHER INFORMATION CONTACT: Scott Maid, Project Officer, at maid.scott@epa.gov, at 703-308-8029, or at Office of Solid Waste (5305W), U.S. Environmental Protection Agency, 1200 Pennsylvania Ave., NW., Washington, DC 20460.

SUPPLEMENTARY INFORMATION: The RCRA, Superfund and EPCRA Call Center has provided program information to callers on a wide variety of topics created under the authorities of the Resource Conservation and Recovery Act (RCRA), which includes the Underground Storage Tank (UST) program; the Comprehensive Environmental Response, Compensation, and Liability Act (CERCLA, or Superfund); the Emergency Planning and Community Right-to-Know Act (EPCRA); the Superfund Amendments Reauthorization Act (SARA) Title III; the Clean Air Act (CAA) Section 112(r); and the Oil Pollution Control Act (OPA).

As of April 1, 2005, RCRA program information will only be available to the public through the Internet at http://www.epa.gov/osw. The Call Center will no longer answer any RCRA questions.

To make it easier for people to find sources of RCRA information, the Office of Solid Waste (OSW) has compiled a complete list of phone numbers and waste program Web sites maintained by EPA Regional offices and state environmental agencies to help users locate site-specific information on RCRA facilities within their states. This compilation is found at http://www.epa.gov/epaoswer/osw/comments.htm.

The site also provides links to the RCRA OnLine database (a searchable compilation of OSW memos and guidance documents) and to an on-line order form (http://www.epa.gov/epaoswer/osw/publicat.htm) for OSW publications. OSW publications may also be ordered by calling the National Service Center for Environmental Publications toll-free at 800-490-9198.

The OSW Web site also includes a link to a database of Frequently Asked Questions (FAQs) that will allow any user to search for RCRA information from a comprehensive set of FAQs. If the existing FAQs do not respond to the user's request, the user can use the system to transmit the question to OSW for resolution.

Similarly, as of April 1, 2005, callers will no longer be able to receive information about EPA's UST program through the Call Center. For information about the UST program and leaking UST program, see EPA's Web site at http://www.epa.gov/oust/ for general information about the Federal tank program; answers to frequently asked questions; laws, regulations, and policy guidance about the tank program; publications and compliance help for states as well as tank owners and operators; and links to regional, state, local, and tribal tank programs. To order publications developed by EPA's Office of Underground Storage Tanks, please call EPA's toll-free number for its publications distribution center at 800-490-9198.

EPA has established an official public docket for this action under Docket ID No. RCRA-2005-0001. The official public docket is the collection of materials that is available for public viewing at the EPA Docket Center, Environmental Protection Agency, EPA West Building, Room B102, 1301 Constitution Ave., NW., Washington, DC. The EPA Docket Center is open from 8:30 a.m. to 4:30 p.m. Mondays through Fridays, excluding legal holidays. The telephone number for the EPA Docket Center reading room is (202) 566-1744, and the telephone number for the OSWER Docket is (202) 566-0272.

An electronic version of the public docket is available through EDOCKET. You may use EDOCKET at http://www.epa.gov/edocket to submit or view public comments, access the index listing of the contents of the official docket, and to access those documents in the public docket that are available electronically. Publicly available docket materials that are not available electronically may be viewed at the docket facility identified above. Once in the system, select “search,” then key in the appropriate docket identification number.

Dated: February 24, 2005.
Thomas P. Dunne,
Deputy Assistant Administrator, Office of Solid Waste and Emergency Response.

[FR Doc. 05-4265 Filed 3-3-05; 8:45 am]

BILLING CODE 6560-50-P